DEPARTMENT OF HOMELAND SECURITY

Coast Guard

33 CFR Part 165

[COTP-PWS-03-003]

RIN 1625-AA00

Security Zone: Protection of High Capacity Passenger Vessels in Prince William Sound, Alaska

AGENCY: Coast Guard, DHS.

ACTION: Temporary final rule.

SUMMARY: The Coast Guard is establishing temporary regulations for the security of high capacity passenger (HCP) vessels in the navigable waters of Prince William Sound, Alaska. This security zone will provide for the regulation of vessel traffic in the vicinity of high capacity passenger vessels in the navigable waters of the Captain of the Port, Prince William Sound zone. This action is being taken to safeguard vessels and ports from sabotage or terrorist acts and incidents by providing the Coast Guard with the enhanced ability to manage vessel traffic in the vicinity of high capacity passenger vessels. This action is necessary to ensure public safety and prevent sabotage, terrorist acts or incidents involving high capacity passenger vessels.

DATES: This temporary rule is effective June 17, 2003, until September 22, 2003.

ADDRESSES: Documents indicated in this preamble as being available in the docket, are part of docket COTP-PWS-03-003 and are available for inspection or copying at Marine Safety Office Valdez, 105 Clifton Drive, Valdez, Alaska 99686, between 8 a.m. and 4 p.m., Monday through Friday, except Federal holidays.

FOR FURTHER INFORMATION CONTACT: LT Catherine L. Huot, Marine Safety Office Valdez, 105 Clifton Drive, Valdez, Alaska 99686, (907) 835-7262.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Publishing a NPRM would be contrary to public interest since immediate action is necessary to safeguard high capacity passenger (HCP) vessels from sabotage, other subversive acts, or accidents. If normal notice and comment procedures were followed, this rule would not become effective soon enough to provide immediate protection to HCP vessels from the threats posed by hostile entities and would compromise the vital national interest in protecting maritime transportation and commerce. The security zone in this regulation has been carefully designed to minimally impact the public while providing a reasonable level of protection for high capacity passenger vessels. For these reasons, following normal rulemaking procedures in this case would be impracticable, unnecessary, and contrary to the public interest.

Background and Purpose

The Coast Guard, through this rule, intends to assist HCP vessels by establishing a security zone to exclude persons and vessels from their immediate vicinity. Recent events highlight the fact that there are hostile entities operating with the intent to harm U.S. National Security. The President has continued the national emergencies he declared following the September 11, 2001 terrorist attacks (67 FR 58317 (Sept. 13, 2002) (continuing national emergency with respect to terrorist attacks), 67 FR 59447 (Sept. 20, 2002) (continuing national emergency with respect to persons who commit, threaten to commit or support terrorism)). The President also has found pursuant to law, including the Act of June 15, 1917, as amended August 9, 1950, by the Magnuson Act (50 U.S.C. 191 et. seq.), that the security of the United States is and continues to be endangered following the attacks (E.O. 13,273, 67 FR 56215 (Sept. 3, 2002) (security endangered by disturbances in international relations of U.S. and such disturbances continue to endanger such relations)).

Entry into this zone will be prohibited unless authorized by the Captain of the Port or his designee. The Captain of the Port may be assisted by other federal, state, or local agencies.

Discussion of Rule

This rule prohibits vessels from entering security zones surrounding HCP vessels that are underway, anchored, or moored. For the purpose of this regulation, HCP vessels are those vessels or U.S. or foreign registry certificated to carry 500 passengers or more. All vessels authorized to be within 100 yards of HCP vessels shall operate at the minimum speed necessary to maintain a safe course, and shall proceed as directed by the on-scene official patrol or HCP vessel master.

No vessel, except a public vessel, is allowed within 100 yards of the HCP vessels, unless authorized by the on-scene official patrol or HCP vessel master. Public vessels, for the purpose of this Temporary Final Rule, are vessels owned, chartered, or operated by the United States, or by a State or political subdivision thereof.

Vessels requesting to pass within 100 yards of HCP vessels must contact the on-scene official patrol or HCP vessel master on VHF-FM channel 16 or 13. The on-scene official patrol or HCP vessel master may permit vessels that need to be in a navigable channel to operate safely to pass within 100 yards of the HCP vessels in order to ensure a safe passage in accordance with the Navigation Rules. Similarly, commercial vessels anchored in a designated anchorage area may be permitted to remain at anchor within 100 yards of a passing HCP vessel.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under paragraph 10e of the regulatory policies and procedures of DHS is unnecessary.

Although this regulation restricts access to the regulated area, the effect of this regulation will not be significant because: (i) Individual vessel security zones are limited in size; (ii) the on-scene official patrol or HCP vessel master may authorize access to the vessel's security zone; (iii) the HCP vessel security zone for any given transiting vessel will effect a given geographical location for a limited time; and (iv) the Coast Guard will make notifications via maritime advisories so mariners can adjust their plans accordingly.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule may affect the following entities, some of which may be small entities: The owners or operators of vessels intending to operate near or anchor in the vicinity of HCP vessels in the navigable waters of Prince William Sound.

This temporary regulation will not have a significant economic impact on a substantial number of small entities for the following reasons: (i) Individual vessel security zones are limited in size; (ii) the on-scene official patrol or HCP vessel master may authorize access to the vessel security zone; (iii) the HCP vessel security zone for any given transiting vessel will affect a given geographic location for a limited time; and (iv) the Coast Guard will make notifications via maritime advisories so mariners can adjust their plans accordingly.

Assistance for Small Entities

Under section 213(a) of the Small Business Regulatory Enforcement Fairness Act of 1996 (Public Law 104-121), we want to assist small entities in understanding this rule so that they can better evaluate its effects on them and participate in the rulemaking. If the rule would affect your small business, organization, or governmental jurisdiction and you have questions concerning its provisions or options for compliance, please contact one of the points of contact listed under FOR FURTHER INFORMATION CONTACT.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

The Coast Guard is committed to working with Tribal Governments to implement local policies to mitigate tribal concerns. Given the flexibility of the Temporary Final Rule to accommodate the special needs of mariners in the vicinity of vessels and the Coast Guard's commitment to working with the Tribes, we have determined that vessel security and fishing rights protection need not be incompatible. Therefore, we have determined that this Temporary Final Rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. A final “Environmental Analysis Check List” and a final “Categorical Exclusion Determination” (CED) will be available in the docket where indicated under ADDRESSES.

List of Subjects in 33 CFR Part 165

Harbors, Marine safety, Navigation (water), Reporting and record keeping requirements, Security measures, Waterways

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; Pub. L. 107-295, 116 Stat. 2064; 33 CFR 1.05-1(g), 6.04-1, 6.04-6, and 160.5; Department of Homeland Security Delegation No. 0170.1.

2. From June 17, 2003, until September 22, 2003, temporary § 165.T17-019 is added to read as follows:

§ 165.T17-019 Security Zone Regulations, High Capacity Passenger Vessel Protection Zone, Prince William Sound, Alaska, Captain of the Port Zone.

(a) Definitions. The following definitions apply to this section:

Alaska Law Enforcement Officer means any General Authority Alaska Peace Officer, Limited Authority Alaska Peace Officer, or Specially Commissioned Alaska Peace Officer as defined by Alaska State laws.

Captain of the Port, Prince William Sound Zone means the area of land and water as defined in 33 CFR 3.85-20, which comprises the area within a boundary which starts at Cape Puget at 148°26′ W. longitude, 59°56.06′ N. latitude, and proceeds northerly to 61°30′ N. latitude; thence easterly to the United States-Canadian boundary; thence southerly along the United States-Canadian boundary to 60°18.7′ N. latitude; thence southwesterly to the sea at 60°01.3′ N. latitude, 142°00′ W. longitude; thence southerly along 142°00′ W. longitude to the outermost boundary of the EEZ; thence along the outermost boundary of the EEZ to 148°26′ N. longitude; thence northerly along 148°26′ W. longitude to the place of origin at Cape Puget at 59°56.06′ N. latitude.

Federal Law Enforcement Officer means any employee or agent of the United States government who has the authority to carry firearms and make warrantless arrests and whose duties involve the enforcement of criminal laws of the United States.

High capacity passenger (HCP) vessel means a vessel of U.S. or foreign registry certificated to carry 500 or more passengers for hire.

High capacity passenger (HCP) vessel security zone is a regulated area of land and water, established by this section, surrounding for a 100 yard radius HCP vessels, that is necessary to provide for the security of these vessels.

Navigable waters of the United States means those waters defined as such in 33 CFR part 2 and includes those waters described in 33 U.S.C. 1222(5) and 50 U.S.C. 195(2).

Navigation Rules means the Navigation Rules, International-Inland.

Official patrol means those persons designated by the Captain of the Port to monitor a HCP vessel security zone, permit entry into the zone, give legally enforceable orders to persons or vessels within the zone and take other actions authorized by the Captain of the Port. Persons authorized to enforce this section are designated as the official patrol.

Public vessel means vessels owned, chartered, or operated by the United States, or by a State or political subdivision thereof.

(b) Applicability. This section applies to any vessel or person in or adjacent to the navigable waters of the United States within the Captain of the Port, Prince William Sound Zone.

(c) Location. A HCP security zone is established and extends for a 100-yard radius around all HCP vessels when those vessels are located in the navigable waters of the United States and within the Captain of the Port, Prince William Sound Zone, whether the HCP vessel is underway, anchored, or moored.

(d) Navigation Rules. The Navigation Rules shall apply at all times within a HCP vessel security zone.

(e) Regulations. All vessels authorized to be within a HCP vessel security zone shall operate at the minimum speed necessary to maintain a safe course and shall proceed as directed by the on-scene official patrol or HCP vessel master. No vessel or person is allowed within 100 yards of a HCP vessel, unless authorized by the on-scene official patrol or HCP vessel master.

(f) Requests to enter. To request authorization to operate within a HCP vessel security zone, contact the on-scene official patrol or HCP vessel master on VHF-FM channel 16 or 13.

(g) Authorization. When conditions permit, the on-scene official patrol or HCP vessel master should:

(1) Permit vessels constrained by their navigational draft or restricted in their ability to maneuver to pass within 100 yards of a HCP vessel in order to ensure a safe passage in accordance with the Navigation Rules; and

(2) Permit commercial vessels anchored in a designated anchorage area to remain at anchor within 100 yards of a passing HCP vessel; and

(3) Permit vessels that must transit via a navigable channel or waterway to pass within 100 yards of a moored or anchored HCP vessel with minimal delay consistent with security.

(h) Exemption. Public vessels as defined in paragraph (a) above are exempt from complying with paragraphs (b), (c), (e), (f), (g), (i), and (j), of this section.

(i) Enforcement. Any Coast Guard commissioned, warrant or petty officer may enforce the rules in this section. When immediate action is required and representatives of the Coast Guard are not present or not present in sufficient force to exercise effective control in the vicinity of a HCP vessel, any Federal Law Enforcement Officer or Alaska Law Enforcement Officer may enforce the rules contained in this section pursuant to 33 CFR 6.04-11. In addition, the Captain of the Port may be assisted by other federal, state or local agencies in enforcing this section.

(j) Waiver. The Captain of the Port, Prince William Sound, Alaska may waive any of the requirements of this section for any vessel upon finding that a vessel or class of vessels, operational conditions or other circumstances are such that application of this section is unnecessary or impractical for the purpose of port security, safety or environmental safety.

Dated: June 17, 2003.
M.A. Swanson,
Commander, U.S. Coast Guard, Captain of the Port, Prince William Sound, Alaska.

[FR Doc. 03-17463 Filed 7-9-03; 8:45 am]

BILLING CODE 4910-15-P